DEPARTMENT OF DEFENSE

Department of the Army

Army Science Board Plenary Meeting

AGENCY: Department of the Army, DoD.

ACTION: Notice of open meeting and a voting session.

SUMMARY: Pursuant to the Federal Advisory Committee Act of 1972, the Sunshine in the Government Act of 1976 and the Code of the Federal Regulations, the Department of the Army announces the following committee meeting:

Name of Committee: Army Science Board (ASB).

Date(s) of Meeting: January 9-11, 2018.

Time(s) of Meeting:

0800-1700, January 9, 2018.

0800-1700, January 10, 2018.

0800-1700, January 11, 2018.

Place of Meeting: Fort Benning, Georgia, Building 70, Room 1020.

Purpose of Meeting: The purpose of the meeting is for ASB members to collect data and hold discussions as it relates to individual study topics listed below, and to review, deliberate, and vote on the findings and recommendations presented for the study entitled: “The Future of Telemetry.”

Public Accessibility to the Meeting: Pursuant to 5 U.S.C. 552b, as amended, and 41 CFR 102-3.140 through 102-3.165, and subject to the availability of space, this meeting is open to the public. Seating is on a first to arrive basis.

Because the meeting of the Subcommittee will be held in a Federal Government facility, security screening is required. A photo ID is required to enter the facility. To enter the facility, visitors must follow the procedures at http://www.benning.army.mil/GateInfo/htrp.html. Please note that security and gate guards have the right to inspect vehicles and persons seeking to enter and exit the installation. For additional information about public access procedures, contact Mr. Paul Woodward, the subcommittee's Alternate Designated Federal Officer, at the email address or telephone number listed in the FOR FURTHER INFORMATION CONTACT section.

Interested persons may submit a written statement for consideration by the Army Science Board. Individuals submitting a written statement must submit their statement to the Designated Federal Official at the address detailed below, at any point; however, if a written statement is not received at least 10 calendar days prior to the meeting, which is the subject of this notice, then it may not be provided to or considered by the Army Science Board. The Designated Federal Official will review all timely submissions with the Army Science Board Chairperson, and ensure they are provided to members of the Army Science Board before the meeting that is the subject of this notice.

FOR FURTHER INFORMATION CONTACT: For information please contact The Army Science Board, Designated Federal Officer, 2530 Crystal Drive, Suite 7098, Arlington, VA 22202; Ms. Heather Ierardi at Heather.J.Ierardi.civ@mail.mil or (703) 545-8652 or Mr. Paul Woodward at Paul.J.Woodward2.civ@mail.mil or (703) 695-8344.

SUPPLEMENTARY INFORMATION: This meeting is being held under the provisions of the Federal Advisory Committee Act of 1972 (5 U.S.C., Appendix, as amended), the Sunshine in the Government Act of 1976 (U.S.C. § 552b, as amended) and 41 Code of the Federal Regulations (CFR 102-3. 140 through 160.

Proposed Agenda: The Army Science Board will meet on January 9-11, 2018 at Fort Benning, Building 70, Room 1020. Purpose of the meeting on each day is to allow each study: (1) Man, Unmanned Teaming; (2) Independent Assessment of the Army's Science and Technology Portfolio Realignment; (3) Multi-Domain Battle 2.0; (4) The Internet of Things: Smart Installations; (5) Independent Assessment of the Army's Next Generation Ground Combat Vehicles Investment Strategy; and (6) Improving the Army's Software Development and Sustainability Strategy, to collect data and hold discussions as it relates to each individual study. The voting session on the study entitled: “The Future of Telemetry” will be conducted on Wednesday, January 10, 2017 at 1400-1500.

Brenda S. Bowen,
Army Federal Register Liaison Officer.

[FR Doc. 2017-27726 Filed 12-22-17; 8:45 am]

BILLING CODE 5001-03-P